DEPARTMENT OF DEFENSE

GENERAL SERVICES ADMINISTRATION

NATIONAL AERONAUTICS AND SPACE ADMINISTRATION

[OMB Control No. 9000-0180; Docket No. 2010-0079; Sequence 22]

Submission for OMB Review; Biobased Procurements

AGENCY: Department of Defense (DOD), General Services Administration (GSA), and National Aeronautics and Space Administration (NASA).

ACTION: Notice of request for public comments regarding a new OMB information clearance.

SUMMARY: Under the provisions of the Paperwork Reduction Act of 1995, the Regulatory Secretariat (MVCB) will be submitting to the Office of Management and Budget (OMB) a request to review and approve a new information collection requirement regarding biobased procurements.

Public comments are particularly invited on: Whether this collection of information is necessary for the proper performance of functions of the FAR, and whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

DATES: Submit comments on or before January 30, 2012.

ADDRESSES: Submit comments identified by Information Collection 9000-0180, Biobased Procurements, by any of the following methods:

• Regulations.gov: http://www.regulations.gov. Submit comments via the Federal eRulemaking portal by inputting “Information Collection 9000-0180, Biobased Procurements” under the heading “Enter Keyword or ID” and selecting “Search”. Select the link “Submit a Comment” that corresponds with “Information Collection 9000-0180, Biobased Procurements”. Follow the instructions provided at the “Submit a Comment” screen. Please include your name, company name (if any), and “Information Collection 9000-0180, Biobased Procurements” on your attached document.

• Fax: (202) 501-4067.

• Mail: General Services Administration, Regulatory Secretariat (MVCB), 1275 First Street NE., Washington, DC 20417. Attn: Hada Flowers/IC 9000-0180, Biobased Procurements.

Instructions: Please submit comments only and cite Information Collection 9000-0180, Biobased Procurements, in all correspondence related to this collection. All comments received will be posted without change to http://www.regulations.gov, including any personal and/or business confidential information provided.

FOR FURTHER INFORMATION CONTACT: Mr. William Clark, Procurement Analyst, Office of Governmentwide Acquisition Policy, at telephone (202) 219-1813 or via email to William.clark@gsa.gov.

SUPPLEMENTARY INFORMATION:

A. Purpose

Federal Acquisition Regulation clause 52.223-2, Affirmative Procurement of Biobased Products Under Service and Construction Contracts, is being revised to require prime contractors to report annually the product types and dollar value of U.S. Department of Agriculture (USDA)-designated biobased products purchased during the preceding fiscal year of a contract. The information reported by prime contractors will enable Federal agencies to report annually to the Office of Federal Procurement Policy concerning actions taken to implement and measure progress in carrying out the preference for biobased products required under section 9002 of the Farm Security and Rural Investment Act of 2002, codified at 7 U.S.C. 8102.

B. Discussion of Comment

A notice was published on the Federal Register at 76 FR 41179, on July 13, 2011. Only one comment was received in response to the Federal Register notice. The respondent stated that the current Federal Acquisition Regulation already requires contractors to make maximum use of (USDA)-designated biobased products, and, therefore, contractors should already be keeping certain records. The respondent concluded that the new information collection requirement, for contractors to report annually to the Government, should not be burdensome. This comment did not result in a change to the estimated burden.

C. Annual Reporting Burden

Respondents: 48,376.

Responses Per Respondent: 5.

Hours Per Response: 5.

Total Burden Hours: 1,209,400.

Obtaining Copies of Proposals: Requesters may obtain a copy of the information collection documents from the General Services Administration, Regulatory Secretariat (MVCB), 1275 First Street, NE., Washington, DC 20417, telephone (202) 501-4755. Please cite OMB Control No. 9000-0180, Biobased Procurements, in all correspondence.

Dated: December 19, 2011.
Laura Auletta,
Acting Director, Office of Goverrnmentwide Acquisition Policy, Office of Acquisition Policy, Office of Governmentwide Policy.

[FR Doc. 2011-33347 Filed 12-28-11; 8:45 am]

BILLING CODE 6820-EP-P